DEPARTMENT OF HOUSING AND URBAN DEVELOPMENT

[Docket No. FR-4810-N-02]

Notice Concerning Release of Certain Loan-Level Data on Ginnie Mae Mortgage-Backed Securities

AGENCY: The Government National Mortgage Association (Ginnie Mae), HUD.

ACTION: Final notice.

SUMMARY: This notice announces that Ginnie Mae, a Government corporation within the Department of Housing and Urban Development (HUD), will make certain loan-level data available to the public on Ginnie Mae multifamily mortgages that back Ginnie Mae-guaranteed securities. On April 8, 2003, Ginnie Mae, through a notice published in the Federal Register, invited public comments on this proposed policy and any impact of releasing specific loan-level information. The period for submitting comments has concluded and Ginnie Mae has not received any public comments. Ginnie Mae will adopt this policy without change.

DATES: Effective Date: July 14, 2003.

FOR FURTHER INFORMATION CONTACT: Paulette M. Griffin, Director, Multifamily Programs Division, Office of Mortgage-Backed Securities, Room 6216, Department of Housing and Urban Development, 451 Seventh Street, SW., Washington, DC 20410-9000; telephone (202) 708-2043 (this is not a toll-free number). Speech- or hearing-impaired individuals may access this number via TTY by calling the toll-free Federal Information Relay Service at 1-800-877-8339.

SUPPLEMENTARY INFORMATION: On April 8, 2003, Ginnie Mae published a notice in the Federal Register (68 FR 17251) that announced its intent to release certain loan-level data, and invited the public to submit comments regarding this proposed policy and any impact of releasing specific loan-level information. The period for submitting comments concluded on May 8, 2003, and Ginnie Mae has not received any public comments. Accordingly, Ginnie Mae will adopt this policy without change.

As announced in the April 8, 2003 notice, Ginnie Mae will now make delinquency information available to the public on the multifamily loans that back Ginnie Mae securities, in order to achieve a fair and open market in Ginnie Mae-guaranteed multifamily securities. Making this multifamily loan information available to investors should lead to greater investor confidence and more accurate pricing on these securities. This could decrease the cost of borrowing to finance apartment buildings, and thus decrease the rents of low- and moderate-income families that live in those buildings.

Accordingly, Ginnie Mae is adopting the policy detailed in its April 8, 2003 notice without change.

Authority: 12 U.S.C. 1721(g); 5 U.S.C. 552; 24 CFR 15.108(c); E.O. 12600.

Dated: June 30, 2003.
Ronald A. Rosenfeld,
President, Government National Mortgage Association.

[FR Doc. 03-17665 Filed 7-11-03; 8:45 am]

BILLING CODE 4210-66-P